NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 16, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agencywide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Office of the Secretary (N1-330-09-5, 1 item, 1 temporary item). Master files of an electronic information system that contains data concerning victims and/or the family members of victims of terrorism who travel in order to view trials before military commissions. Included is such information as name, address, passport information, and victim impact questionnaires.

2. Department of Defense, Defense Finance and Accounting Service (N1-507-09-2, 4 items, 4 temporary items). Pay account records pertaining to the Marine Corps Total Force System, including bond authorizations, allotments, and allotment data.

3. Department of Defense, National Geospatial-Intelligence Agency (N1-537-09-2, 7 items, 7 temporary items). Records of the Systems Integrity Division, including records of internal committees, systems engineering files, and technical/configuration files for systems.

4. Department of Education, Office for Civil Rights (N1-441-08-8, 3 items, 2 temporary items). Annual, bi-annual, and one-time survey data relating to the compliance status of recipients of Federal financial assistance pursuant to the Civil Rights Act of 1964, the Americans with Disabilities Act of 1990, and other civil rights legislation. Proposed for permanent retention is the final edited master version of the Civil Rights Survey.

5. Department of Health and Human Services, Food and Drug Administration (N1-88-09-1, 13 items, 13 temporary items). Records relating to inspection and compliance activities, including such records as inspection case files, files pertaining to investigator disqualifications, master data files for the Drug Quality Reporting System, and master files for systems used to track inspection work.

6. Department of Health and Human Services, Food and Drug Administration (N1-88-09-5, 11 items, 11 temporary items). Records of the Center for Food Safety and Applied Nutrition. Included are such records as pre-marketing permits for experimental foods; food and color additive petitions, notifications, and consultations and related electronic administrative tracking data; data files and background information on food additive chemical and toxicological profiles; files relating to the importation of milk; subject files relating to infant formula manufacturers; pre-market notifications for infant formulas and related electronic administrative tracking data; and master data files and final reports from the Seafood Hazard Analysis and Critical Control Point survey.

7. Department of Homeland Security, U.S. Citizenship and Immigration Services (N1-566-09-5, 1 item, 1 temporary item). Master files associated with an electronic information system used for such administrative purposes as workflow management, production evaluation, and time and attendance matters.

8. Department of the Interior, National Business Center (N1-48-09-1, 1 item, 1 temporary item). Master files of an electronic information system that contains information concerning maintenance problems and other conditions involving agency aircraft that have the potential to cause mishaps.

9. Department of Justice, Executive Office for U.S. Attorneys (N1-60-09-26, 3 items, 3 temporary items). Master files and outputs associated with an electronic information system that contains information regarding training activities, such as data concerning course participants, descriptions of courses, and training materials.

10. Department of State, Bureau of Diplomatic Security (N1-59-09-15, 1 item, 1 temporary item). Master files of an electronic information system that contains data concerning the protection of personnel and diplomatic contingents of dignitaries visiting the United States.

11. Department of the Treasury, Alcohol and Tobacco Tax and Trade Bureau (N1-564-09-1, 1 item, 1 temporary item). Master files of an electronic information system used for audits and investigations conducted by agency field offices.

12. Department of the Treasury, Financial Crimes Enforcement Network (N1-559-09-1, 3 items, 3 temporary items). Master files, inputs, and outputs of an electronic case management system used for bank secrecy and compliance reporting.

13. Department of the Treasury, Internal Revenue Service (N1-58-09-41, 1 item, 1 temporary item). Master files of an electronic information system used to provide information to participating agencies concerning taxpayers' eligibility for public assistance.

14. Department of the Treasury, Internal Revenue Service (N1-58-09-55, 5 items, 5 temporary items). Master files and outputs associated with an electronic information system used to process tax law questions submitted by taxpayers via the agency Web site.

15. Department of the Treasury, Internal Revenue Service (N1-58-09-57, 3 items, 3 temporary items). Master files, inputs, and outputs associated with an electronic information system used to monitor benefits and services provided to agency employees.

16. Department of the Treasury, Internal Revenue Service (N1-58-09-64, 4 items, 4 temporary items). Master files and outputs associated with an electronic information system used to track employee job satisfaction matters.

17. Department of the Treasury, Internal Revenue Service (N1-58-09-65, 2 items, 2 temporary items). Master files and outputs associated with an electronic information system used to apply State income tax refunds to individual taxpayers' Federal debts.

18. Department of the Treasury, Internal Revenue Service (N1-58-09-66, 3 items, 3 temporary items). Master files, inputs, and outputs of an electronic information system used to manage the distribution of agency publications.

19. Department of the Treasury, Internal Revenue Service (N1-58-09-67, 3 items, 3 temporary items). Master files, inputs, and outputs associated with an electronic information system used in connection with processing, validation, and correction of tax returns.

20. Department of Veterans Affairs, Veterans Benefits Administration (N1-15-09-1, 1 item, 1 temporary item). Requests for certifications of eligibility for loan guaranty benefits.

21. Export-Import Bank of the United States, Chief Information Office (N1-275-09-2, 1 item, 1 temporary item). Master files of an electronic information system used to track loans and guarantees provided to foreign buyers for the purchase of U.S. exports.

22. Export-Import Bank of the United States, Chief Information Office (N1-275-09-3, 1 item, 1 temporary item). Master files of an electronic information system used to manage insurance applications and policies.

Dated: September 10, 2009.
Michael J. Kurtz,
Assistant Archivist for Records Services—Washington, DC.

[FR Doc. E9-22239 Filed 9-15-09; 8:45 am]

BILLING CODE 7515-01-P